DEPARTMENT OF ENERGY

Federal Energy Regulatory Commission

[Docket No. ER04-691-000 and Docket No. EL04-104-000]

Midwest Independent Transmission System Operator, Inc.; Public Utilities With Grandfathered Agreements in the Midwest ISO Region; Notice of Availability of Filing Instructions and Summary Template

June 22, 2004.

1. Pursuant to the Commission's Notice of Availability of Executive Summary and Index Templates, issued June 17, 2004, the Commission staff is hereby issuing instructions to all parties for filing Grandfathered Agreement (GFA) Information pursuant to the Commission's May 26, 2004 Order in the above captioned dockets.¹ The template for filing summary GFA information is available with this notice and on http://www.ferc.gov under “What's New.”

¹ Midwest Independent Transmission System Operator, Inc., et al., 107 FERC ¶61,191 (2004) (May 26 Order).

2. Parties should review the instructions for the template before using it; the template contains macros that preclude use of the Save and Save As functions in Excel. Summary information should be submitted using the Commission's electronic filing system (eFiling link at http://www.ferc.gov). Parties filing testimony and exhibits should also use the eFiling system, provided the material is public and meets the maximum file number and file size restrictions.

3. All submissions are due by 5 p.m. eastern time on June 25, 2004.

Magalie R. Salas,
Secretary.

[FR Doc. E4-1435 Filed 07-01-04; 8:45 am]

BILLING CODE 6717-01-P